DEPARTMENT OF THE INTERIOR

Fish and Wildlife Service

[FWS-R7-ES-2025-0440; FXES11140700000-256-FF07C00000]

Endangered Species and Eagles; Issuance of Biological Opinion and Permit

AGENCY: Fish and Wildlife Service, Interior.

ACTION: Notice of issuance.

SUMMARY: In accordance with the statute of limitations provision in title 41 of the Fixing America's Surface Transportation Act, we, the U.S. Fish and Wildlife Service, are providing this notification of our issuance of a biological opinion and permit for the Alaska Liquefied Natural Gas Project. We issue this biological opinion under the Endangered Species Act and this permit under the Bald and Golden Eagle Protection Act.

ADDRESSES: Information about the biological opinion and permit listed in this notice is available online at https://www.regulations.gov. See SUPPLEMENTARY INFORMATION for details.

FOR FURTHER INFORMATION CONTACT:

For the biological opinion: Drew Crane, by telephone at 907-302-9266 or via email at drew_crane@fws.gov.

For the permit: Wendy Loya, by telephone at 907-227-2942 or via email at wendy_loya@fws.gov.

Individuals in the United States who are deaf, deafblind, hard of hearing, or have a speech disability may dial 711 (TTY, TTD, or TeleBraille) to access telecommunications relay services. Individuals outside the United States should use the relay services offered within their country to make international calls to the point-of-contact in the United States.

SUPPLEMENTARY INFORMATION: Under title 41 of the Fixing America's Surface Transportation Act (FAST-41) (42 U.S.C. 4370m et seq., as amended), the statute of limitations provision (42 U.S.C. 4370m6(a)(1)) requires that claims challenging any authorization issued by a Federal agency for a FAST-41 covered project must be filed within 2 years of the date on which notice of the authorization is published in the Federal Register. The provision is intended to provide certainty about the status of legal claims concerning a covered project by establishing a maximum time after which legal proceedings cannot be initiated. Building on the goal of FAST-41 to increase transparency in Federal decision-making, publication in the Federal Register puts potential litigants on notice that an authorization is subject to judicial review and the statute of limitations has begun.

We, the U.S. Fish and Wildlife Service, are therefore providing notice of our issuance of a biological opinion in accordance with section 7 of the Endangered Species Act of 1973, as amended (16 U.S.C. 1531 et seq.). We also provide notice of our issuance of a permit to conduct certain activities affecting bald (Haliaeetus leucocephalis) and golden (Aquila chrysaetos) eagles under the authority of the Bald and Golden Eagle Protection Act of 1940, as amended (16 U.S.C. 668-668d), in response to a permit application that we received for the Alaska Liquefied Natural Gas Project (Docket No. CP17-178-000). The biological opinion and the permit are final agency actions under the Endangered Species Act and Bald and Golden Eagle Protection Act, respectively, and authorizations for purposes of FAST-41. Publication of this notice serves as the initiation of the 2-year statute of limitations periods concerning each action.

Availability of Documents

You may view the biological opinion at https://reports.ecosphere.fws.gov/FWSPublicReports/Reports/Index?reportname=BiologicalOpinionReport by searching for the appropriate project code provided in the following table and the permit at https://www.regulations.gov under Docket No. FWS-R7-ES-2025-0440.

Project code/ePermit No. | Applicant | Biological opinion/ permit issuance date
2023-0017116 | Federal Energy Regulatory Commission | May 1, 2025.
MBPER20700551 | Alaska Gasline Development Corporation | May 23, 2025.

Authority

We issue this notice under the authority of title 41 of the Fixing America's Surface Transportation Act (FAST-41) (42 U.S.C. 4370m et seq., as amended), the Endangered Species Act of 1973, as amended (16 U.S.C. 1531 et seq.), the Bald and Golden Eagle Protection Act of 1940, as amended (16 U.S.C. 668-668d), and their implementing regulations.

Peter Fasbender,
Assistant Regional Director, Fisheries and Ecological Services Alaska Region, U.S. Fish and Wildlife Service.

[FR Doc. 2025-17219 Filed 9-5-25; 8:45 am]

BILLING CODE 4333-15-P